NATIONAL CREDIT UNION ADMINISTRATION

Submission for OMB Review; Comment Request

AGENCY: National Credit Union Administration (NCUA).

ACTION: Notice.

SUMMARY: The National Credit Union Administration (NCUA) will submit the following information collection request to the Office of Management and Budget (OMB) for review and clearance in accordance with the Paperwork Reduction Act of 1995, on or after the date of publication of this notice.

DATES: Comments should be received on or before July 5, 2018 to be assured of consideration.

ADDRESSES: Send comments regarding the burden estimate, or any other aspect of this information collection, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Suite 5080, Alexandria, VA 22314, or email at PRAComments@ncua.gov.

FOR FURTHER INFORMATION CONTACT: Copies of the submission may be obtained by contacting Dawn Wolfgang at (703) 548-2279, emailing PRAComments@ncua.gov, or viewing the entire information collection request at www.reginfo.gov.

SUPPLEMENTARY INFORMATION: OMB Number: 3133-0193.

Title: Joint Standards for Assessing the Diversity Policies and Practices.

Form: NCUA 15004.

Abstract: Section 342 of the Dodd-Frank Wall Street Reform and Consumer Protection Act instructed Office of Minority and Women Inclusion (OMWI) Directors to develop standards for assessing the diversity policies and practices of entities for which they regulate. Together, NCUA, OCC, the Board, FDIC, CFPB, and SEC develop joint standards and, on June 10, 2015, they jointly published in the Federal Register the “Final Interagency Policy Statement Establishing Joint Standards for Assessing the Diversity Policies and Practices of Entities Regulated by the Agencies.”

The Joint Standards envision that a regulated entity, in a manner reflective of its size and other characteristics, (a) conducts annually a voluntary self-assessment of its diversity policies and practices; (b) monitors and evaluates its performance under its diversity policies and practices on an ongoing basis; (c) provides information pertaining to its self-assessment to the OMWI Director of its primary federal financial regulator; and (d) publishes information pertaining to its efforts with respect to the Joint Standards. In order to facilitate the self-assessment and information collection described in the Policy Statement, the NCUA provides NCUA Form 15004, “Annual Voluntary Credit Union Diversity Self-Assessment,” to federally insured credit unions to perform their assessment and to submit information to the NCUA.

Type of Review: Revision of a currently approved collection.

Affected Public: Private Sector: Not-for-profit institutions.

Estimated Total Annual Burden Hours: 2,600.

Explanation for change: Further evaluation of the burden associated with the redesign and burden methodology is estimated at 8 hours per response.

By Gerard Poliquin, Secretary of the Board, the National Credit Union Administration, on May 30, 2018.

Dated: May 30, 2018.
Dawn D. Wolfgang,
NCUA PRA Clearance Officer.

[FR Doc. 2018-11935 Filed 6-1-18; 8:45 am]

BILLING CODE 7535-01-P